DEPARTMENT OF ENERGY

Federal Energy Regulatory Commission

Combined Notice of Filings #1

Take notice that the Commission received the following electric rate filings:

Docket Numbers: ER17-1394-003; ER16-2019-004; ER17-1607-003; ER17-1608-003; ER20-27-003.

Applicants: 83WI 8me, LLC, Five Points Solar Park LLC, Sunray Energy 2, LLC, Sunray Energy 3 LLC, Wright Solar Park LLC.

Description: Notice of Change in Status of 83WI 8me, LLC, et al.

Filed Date: 3/1/21.

Accession Number: 20210301-5421.

Comments Due: 5 p.m. ET 3/22/21.

Docket Numbers: ER20-1996-001.

Applicants: Assembly Solar I, LLC.

Description: Notice of Change in Status of Assembly Solar I, LLC.

Filed Date: 3/1/21.

Accession Number: 20210301-5423.

Comments Due: 5 p.m. ET 3/22/21.

Docket Numbers: ER21-278-001.

Applicants: PJM Interconnection, L.L.C.

Description: Tariff Amendment: ELCC Response to Deficiency Letter to be effective 5/1/2021.

Filed Date: 3/1/21.

Accession Number: 20210301-5343.

Comments Due: 5 p.m. ET 3/22/21.

Docket Numbers: ER21-1237-000.

Applicants: Assembly Solar I, LLC.

Description: § 205(d) Rate Filing: Normal docket update to be effective 3/2/2021.

Filed Date: 3/1/21.

Accession Number: 20210301-5242.

Comments Due: 5 p.m. ET 3/22/21.

Docket Numbers: ER21-1238-000.

Applicants: Arizona Public Service Company.

Description: § 205(d) Rate Filing: Service Agreement No. 387—White Wing Ranch E&P Agreement to be effective 2/19/2021.

Filed Date: 3/1/21.

Accession Number: 20210301-5247.

Comments Due: 5 p.m. ET 3/22/21.

Docket Numbers: ER21-1239-000.

Applicants: Gulf Power Company.

Description: § 205(d) Rate Filing: Updated Distribution Facilities Charge for NITSA to be effective 5/1/2020.

Filed Date: 3/1/21.

Accession Number: 20210301-5354.

Comments Due: 5 p.m. ET 3/22/21.

Docket Numbers: ER21-1241-000.

Applicants: ISO New England Inc., New England Power Company.

Description: Compliance filing: New England Power Company; Supplemental Order No. 864 Compliance Filing to be effective 1/1/2020.

Filed Date: 3/1/21.

Accession Number: 20210301-5356.

Comments Due: 5 p.m. ET 3/22/21.

Docket Numbers: ER21-1243-000.

Applicants: PJM Interconnection, L.L.C.

Description: § 205(d) Rate Filing: Amendments to Price Responsive Demand Rules to be effective 11/2/2020.

Filed Date: 3/1/21.

Accession Number: 20210301-5348.

Comments Due: 5 p.m. ET 3/22/21.

Docket Numbers: ER21-1244-000.

Applicants: Sustaining Power Solutions LLC.

Description: Emergency Request for One-Time, Limited Waiver of Tariff Provisions of Sustaining Power Solutions LLC.

Filed Date: 3/1/21.

Accession Number: 20210301-5413.

Comments Due: 5 p.m. ET 3/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2021.
Nathaniel J. Davis, Sr.,
Deputy Secretary.

[FR Doc. 2021-04750 Filed 3-5-21; 8:45 am]

BILLING CODE 6717-01-P